DEPARTMENT OF THE INTERIOR

Bureau of Land Management

[Docket No. OR-010-1020-PK; HAG 05-0159]

Meeting: Resource Advisory Council—Southeast Oregon

AGENCY: Bureau of Land Management (BLM), Lakeview District.

ACTION: Meeting notice for the Southeast Oregon Resource Advisory Council (SEORAC).

SUMMARY: The SEORAC will hold a conference call for all members on Monday August 8, 2005 at 10 a.m. Pacific standard time. The conference call is open to the public. Members of the public in the Lakeview area may attend the meeting in person in the Abert Rim Conference Room, Lakeview Interagency Office, 1301 South G Street, Lakeview, Oregon 97630.

The meeting topics to be discussed include: Approval of past meeting minutes, an update on off-highway vehicle regulations, new wild horse and burro information, and an update on grazing regulations. There may also be a report concerning stewardship, and an update on the Tri-RAC meeting planned for November 6 to 8, 2005.

FOR FURTHER INFORMATION CONTACT: Additional information concerning the SEORAC conference call may be obtained from Pam Talbott, contact representative, Lakeview Interagency Office, 1301 South G Street, Lakeview, Oregon 97630 (541) 947-6107, or ptalbott@or.blm.gov.

Dated: June 28, 2005.
M. Joe Tague,
Associate District Manager.

[FR Doc. 05-13207 Filed 7-5-05; 8:45 am]

BILLING CODE 4310-33-M